DEPARTMENT OF ENERGY

Federal Energy Regulatory Commission

[ER99-3151-008, etc.]

PSEG Energy Resources & Trade LLC, et al.; Notice of Filing

July 18, 2008.

In the matter of: Docket Nos. ER99-3151-008, ER97-837-007, ER03-327-002, ER08-447-000, ER08-448-000; PSEG Energy Resources & Trade LLC, Public Service Electric and Gas Company, PSEG Power Connecticut LLC, PSEG Fossil LLC, PSEG Nuclear LLC.

ER98-1466-005, ER00-814-006, ER00-2924-006, ER02-1638-005; Allegheny Power, Allegheny Energy Supply Company, LLC, Green Valley Hydro, LLC, Buchanan Generation, LLC.

ER00-1712-008, ER02-2408-003, ER00-744-006, ER00-744-006, ER00-744-006, ER00-744-006, ER00-744-006, ER02-1327-005, ER00-1703-003, ER02-1749-003, ER02-1747-003, ER99-4503-005, ER00-2186-003, ER01-1559-004; PPL Electric Utilities Corporation, Lower Mount Bethel Energy, LLC, PPL Brunner Island, LLC, PPL Holtwood, LLC, PPL Marlins Creek, LLC, PPL Montour, LLC, PPL Susquehanna, LLC, PPL University Park, LLC, PPL EnergyPlus, LLC, PPL Edgewood Energy, LLC, PPL Shoreham Energy, LLC, PPL Great Works, LLC, PPL Maine, LLC, PPL Wallingford Energy LLC.

ER96-1361-013, ER99-2781-011, ER98-4138-009, ER00-1770-019, ER02-453-010, ER98-3096-015, ER07-903-002, ER05-1054-003, ER01-202-008, ER04-472-007; Atlantic City Electric Company, Delmarva Power & Light Company, Potomac Electric Power Company, Conectiv Energy Supply, Inc., Conectiv Bethlehem, LLC, Pepco Energy Services, Inc., Bethlehem Renewable Energy, LLC, Eastern Landfill Gas, LLC, Potomac Power Resources, LLC, Fauquier Landfill Gas, LLC.

ER01-468-008, ER00-3621-009, ER00-3746-009, ER04-318-004, ER05-36-005, ER05-37-005, ER05-34-005, ER05-35-005, ER04-249-005, ER99-1695-010, ER02-23-011, ER97-30-006, ER96-2869-013, ER97-3561-005, ER00-1737-011; Dominion Energy Marketing, Inc., Dominion Nuclear Connecticut, Inc., Dominion Nuclear Marketing III, LLC, Dominion Energy Kewaunee, Inc., Dominion Energy Brayton Point, LLC, Dominion Energy Manchester Street, Inc., Dominion Energy New England, Inc., Dominion Energy Salem, Dominion Retail, Inc., Elwood Energy, LLC, Fairless Energy, LLC, Kincaid Generation, LLC, State Line Energy, LLC, Virginia Electric and Power Company.

ER99-2948-012, ER00-2918-011, ER00-2917-011, ER97-2261-022, ER01-556-010, ER01-1654-013, ER02-2567-011, ER02-699-005, ER04-485-008, ER07-247-003, ER07-245-003, ER07-244-003; Baltimore Gas and Electric Company, Constellation Power Source Generation, Inc., Calvert Cliffs Nuclear Power Plant, Inc., Constellation Energy Commodities Group, Inc., Handsome Lake Energy, LLC, Nine Mile Point Nuclear Station, LLC, Constellation NewEnergy, Inc., Constellation Energy Commodities Group Maine, LLC, R.E. Ginna Nuclear Power Plant, LLC, Raven One, LLC, Raven Two, LLC, Raven Three, LLC.

ER00-3251-015, ER99-754-016, ER98-1734-014, ER01-1919-011, ER01-1147-006, ER01-513-021, ER01-513-021, ER01-513-021, ER01-513-021, ER99-2404-011; Exelon Generation Company, LLC, AmerGen Energy Company, LLC, Commonwealth Edison Company, Exelon Energy Company, PECO Energy Company, Exelon West Medway, LLC, Exelon Wyman, LLC, Exelon New Boston, LLC, Exelon Framingham, LLC, Exelon New England Power Marketing, L.P.

ER01-1403-006, ER06-1443-002, ER04-366-005, ER01-2968-007, ER01-845-006, ER05-1122-004, ER08-107-001; FirstEnergy Operating Companies, Pennsylvania Power Company, et al., Jersey Central Power & Light Company, FirstEnergy Solutions Corp., FirstEnergy Generation Corporation, FirstEnergy Nuclear Generating Corporation, FirstEnergy Generating Mansfield Unit 1 Corp.

Notice of Filing

Take notice that on July 14, 2008, PJM Interconnection, L.L.C. filed supplement information to its June 2, 2008, Supplemental Simultaneous Import Limitation (SIL) Study Adding the PJM-East SIL Study, in response to the Commission's July 3, 2008 Deficiency Notice.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 25, 2008.

Kimberly D. Bose,
Secretary.

[FR Doc. E8-17175 Filed 7-25-08; 8:45 am]

BILLING CODE 6717-01-P